DEPARTMENT OF ENERGY

Federal Energy Regulatory Commission

[Docket No. RM96-1-026]

Standards for Business Practices of Interstate Natural Gas Pipelines; Notice of Compliance Filing

July 8, 2005.

In the matter of: RP05-417-000, RP05-479-000, RP05-465-000, RP05-464-000, RP05-471-000, RP05-482-000, RP05-411-000, RP05-419-000, RP05-457-000, RP05-436-000, RP05-404-000, RP05-424-000, RP05-446-000, RP05-488-000, RP05-459-000, RP05-433-000, RP05-434-000, RP05-435-000, RP05-495-000, RP05-426-000, RP05-437-000, RP05-472-000, RP05-423-000, RP05-416-000, RP05-407-000, RP05-460-000, RP05-445-000, RP05-442-000, RP05-443-000, RP05-444-000, RP05-453-000, RP05-458-000, RP05-447-000, RP05-475-000, RP05-391-000, RP05-400-000, RP05-414-000, RP05-439-000, RP05-429-000, RP05-413-000, RP05-468-000, RP05-456-000, RP05-438-000, RP05-473-000, RP05-418-000, RP05-461-000, RP05-393-000, RP05-489-000, RP05-454-000, RP05-448-000, RP05-477-000, RP05-420-000, RP05-498-000, RP05-463-000, RP05-496-000, RP05-392-000, RP05-409-000, RP05-406-000, RP05-497-000, RP05-405-000, RP05-485-000, RP05-469-000, RP05-462-000, RP05-441-000, RP05-483-000, RP05-466-000, RP05-487-000, RP05-455-000, RP05-486-000, RP05-402-000, RP05-470-000, RP05-395-000, RP05-390-000, RP05-427-000, RP05-474-000, RP05-499-000, RP05-452-000, RP05-410-000, RP05-396-000, RP05-428-000, RP05-421-000, RP05-481-000, RP05-480-000, RP05-449-000, RP05-493-000, RP05-492-000, RP05-415-000, RP05-412-000, RP05-484-000, RP05-430-000, RP05-394-000, RP05-478-000, RP05-432-000, RP05-450-000, and RP05-451-000; Algonquin Gas Transmission, L.L.C., Alliance Pipeline L.P., ANR Pipeline Company, ANR Storage Company, Black Marlin Pipeline Company, Blue Lake Gas Storage Company, B-R Pipeline Company, Canyon Creek Compression Company, CenterPoint Energy Gas Transmission Company, CenterPoint Energy-Mississippi River Transmission, Corporation, Central New York Oil and Gas Company, LLC, Chandeleur Pipe Line Company, Cheyenne Plains Gas Pipeline Company, L.L.C., Clear Creek Storage Company, L.L.C., Colorado Interstate Gas Company, Columbia Gas Transmission Corporation, Columbia Gulf Transmission Company, Crossroads Pipeline Company, Dauphin Island Gathering Partners, Destin Pipeline Company, L.L.C., Discovery Gas Transmission LLC, Dominion Cove Point LNG, LP, Dominion Transmission, Inc., East Tennessee Natural Gas, L.L.C., Egan Hub Storage, LLC, El Paso Natural Gas Company, Enbridge Offshore Pipeline, Enbridge Pipelines (AlaTenn), Enbridge Pipelines (KPC), Enbridge Pipelines (Midla) L.L.C., Garden Banks Gas Pipeline, LLC, Gas Transmission Northwest Corporation, Granite State Gas Transmission, Inc., Great Lakes Gas Transmission Limited Partnership, Guardian Pipeline, LLC, Gulf South Pipeline Company, Gulfstream Natural Gas System L.L.C., High Island Offshore System, L.L.C., Honeoye Storage Corporation, Horizon Pipeline Company, Iroquois Gas Transmission System, L.P., Kern River Gas Transmission Company, Kinder Morgan Interstate Gas Transmission LLC, KO Transmission Company, Maritimes & Northeast Pipeline, L.L.C., MarkWest New Mexico L.P., Midwestern Gas Transmission Company, MIGC, Inc., Mississippi Canyon Gas Pipeline, LLC, Mojave Pipeline Company, National Fuel Gas Supply Corporation, Natural Gas Pipeline Company of America, Nautilus Pipeline Company, L.L.C., NGO Transmission, Inc., North Baja Pipeline, LLC, Northern Border Pipeline Company, Northern Natural Gas Company, Northwest Pipeline Corporation, Overthrust Pipeline Company, Ozark Gas Transmission, L.L.C., Paiute Pipeline Company, Panhandle Eastern Pipe Line Company, LP, Panther Interstate Pipeline Energy, L.L.C., Petal Gas Storage, L.L.C., Pine Needle LNG Company, LLC, Questar Pipeline Company, Questar Southern Trails Pipeline Company, Sabine Pipe Line LLC, Saltville Gas Storage Company, L.L.C., SCG Pipeline, Inc., Sea Robin Pipeline Company, LLC, Southern LNG Inc., Southern Natural Gas Company, Southern Star Central Gas Pipeline, Inc., Southwest Gas Storage Company, Stingray Pipeline Company, L.L.C., Tennessee Gas Pipeline Company, Texas Eastern Transmission, LP, Texas Gas Transmission Corporation, Total Peaking Services, L.L.C., Trailblazer Pipeline Company, TransColorado Gas Transmission Company, Transcontinental Gas Pipe Line Corporation, Transwestern Pipeline Company, LLC, Trunkline Gas Company, LLC, Trunkline LNG Company, LLC, Tuscarora Gas Transmission Co., USG Pipeline Company, Vector Pipeline L.P., Venice Gathering System L.L.C., Viking Gas Transmission Company, WestGas InterState, Inc., Williston Basin Interstate Pipeline Company, Wyoming Interstate Company, Ltd., and Young Gas Storage Company, Ltd.

Take notice that the above-referenced pipelines filed revised tariff sheets to comply with the Commission's Order No. 587-S, Final Rule, in Docket No. RM96-1-026 issued May 9, 2005, 111 FERC ¶ 61,203 (2005). The revised tariff sheets are to be effective September 1, 2005.

Any person desiring to become a party in any of the listed dockets must file a separate motion to intervene in each docket for which they wish party status.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Intervention and Protest Date: 5 p.m. eastern time on July 18, 2005.

Magalie R. Salas,
Secretary.

[FR Doc. E5-3726 Filed 7-13-05; 8:45 am]

BILLING CODE 6717-01-P